DEPARTMENT OF HOMELAND SECURITY

Coast Guard

33 CFR Part 117

[Docket No. USCG-2017-0251

Drawbridge Operation Regulation; Barnegat Bay, Seaside Heights, NJ

AGENCY: Coast Guard, DHS.

ACTION: Notice of deviation from drawbridge regulation; modification.

SUMMARY: The Coast Guard has modified a temporary deviation from the operating schedule that governs the S37 Bridge across the Barnegat Bay, mile 14.1, New Jersey Intracoastal Waterway, at Seaside Heights, NJ. This modified deviation is necessary to perform bridge maintenance and repairs. This deviation allows the bridge to remain in the closed-to-navigation position.

DATES: This modified deviation is effective without actual notice from April 26, 2017 through 8 p.m. on April 28, 2017. For the purposes of enforcement, actual notice will be used from 8:00 p.m. on April 21, 2017, until April 26, 2017.

ADDRESSES: The docket for this deviation, [USCG-2017-0251] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: On March 30, 2017, the Coast Guard published a temporary deviation entitled “Drawbridge Operation Regulation: Barnegat Bay, Seaside Heights, NJ” in the Federal Register (82 FR 15630). Under that temporary deviation, the bridge will remain in the closed-to-navigation position from 8 p.m. on March 31, 2017, through 8 p.m. on April 21, 2017. The New Jersey Department of Transportation, that owns and operates the S37 Bridge, has requested a modified temporary deviation from the current operating regulations to continue performing a maintenance and repair project on the bridge that commenced at 8 a.m. on December 1, 2016, and was scheduled to cease at 8 p.m. on April 21, 2017. The bridge is a bascule draw bridge and has a vertical clearance in the closed position of 30 feet above mean high water.

The current operating schedule as set out in 33 CFR 117.733(c) allows the bridge to remain in the closed-to- navigation position from 8 a.m. on December 1, 2016, until 8 p.m. on March 31, 2017. Under this modified temporary deviation, the bridge will continue to remain in the closed-to-navigation position from 8 p.m. on March 31, 2017, to 8 p.m. on April 28, 2017.

The Barnegat Bay on the New Jersey Intracoastal Waterway is used by a variety of vessels including small government and public vessels, small commercial vessels, and recreational vessels. The Coast Guard has carefully considered the nature and volume of vessel traffic on the waterway in publishing this temporary deviation.

Vessels able to safely pass through the bridge in the closed position may do so at any time. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: April 20, 2017.
Hal R. Pitts,
Bridge Program Manager, Fifth Coast Guard District.

[FR Doc. 2017-08395 Filed 4-25-17; 8:45 am]

BILLING CODE 9110-04-P